DEPARTMENT OF ENERGY

Federal Energy Regulatory Commission

Combined Notice of Filings

Take notice that the Commission has received the following Natural Gas Pipeline Rate and Refund Report filings:

Docket Numbers: RP21-622-000.

Applicants: Equinor Natural Gas LLC, The Brooklyn Union Gas Company.

Description: Joint Petition For Temporary Waiver of Capacity Release Regulations, et al. of Equinor Natural Gas LLC, et al.

Filed Date: 3/16/21.

Accession Number: 20210316-5141.

Comments Due: 5 p.m. ET 3/29/21.

Docket Numbers: RP21-573-001.

Applicants: Columbia Gulf Transmission, LLC.

Description: Tariff Amendment: Amendment TRA 2021 to be effective 4/1/2021.

Filed Date: 3/17/21.

Accession Number: 20210317-5156.

Comments Due: 5 p.m. ET 3/24/21.

Docket Numbers: RP21-623-000.

Applicants: Midcontinent Express Pipeline LLC.

Description: Compliance filing 2021 Annual Penalty Revenue Crediting Report.

Filed Date: 3/17/21.

Accession Number: 20210317-5030.

Comments Due: 5 p.m. ET 3/29/21.

Docket Numbers: RP21-624-000.

Applicants: Greylock Production, LLC, PENN PRODUCTION GROUP LLC.

Description: Joint Petition For Temporary Waiver of Capacity Release Regulations, et al. of Greylock Production, LLC, et al.

Filed Date: 3/17/21.

Accession Number: 20210317-5072.

Comments Due: 5 p.m. ET 3/26/21.

Docket Numbers: RP21-625-000.

Applicants: Venture Global Calcasieu Pass, LLC.

Description: Petition For Temporary Waiver of Capacity Release Regulations, et al. of Venture Global Calcasieu Pass, LLC.

Filed Date: 3/17/21.

Accession Number: 20210317-5182.

Comments Due: 5 p.m. ET 3/29/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 18, 2021.
Nathaniel J. Davis, Sr.,
Deputy Secretary.

[FR Doc. 2021-06103 Filed 3-24-21; 8:45 am]

BILLING CODE 6717-01-P